DEPARTMENT OF HOMELAND SECURITY

[Docket No. DHS-2018-0036]

Privacy Act of 1974; Computer Matching Program

AGENCY: Federal Emergency Management Agency, Department of Homeland Security.

ACTION: Notice of a new computer matching program.

SUMMARY: This document provides notice of the establishment of a computer matching program between the Department of Homeland Security (DHS)/Federal Emergency Management Agency (FEMA) and the U.S. Department of Housing and Urban Development (HUD). The purpose of this CMA is to ensure that eligible housing assistance applicants do not receive a duplication of housing benefits from both DHS/FEMA and HUD, as required by the Robert T. Stafford Disaster Relief and Emergency Assistance Act, as amended.

DATES: The matching program will be effective for a period of 18 months beginning either January 31, 2019, or 40 days after the publication of this notice, whichever is later. The matching program may be extended for up to an additional 12 months thereafter, if certain conditions are met. Please submit comments on the proposal by March 4, 2019. A new or revised matching notice will become effective 30 days from the date of publication in the Federal Register, unless the agency determines that significant changes to the matching notice are necessary, and as such, the agency will publish a revised matching notice and provide an additional 30-day public comment.

ADDRESSES: You may submit comments, identified by docket number DHS-2018-0036 by one of the following methods:

• Federal e-Rulemaking Portal: http://www.regulations.gov. Follow the instructions for submitting comments.

• DHS Fax: 202-343-4010.

• DHS Mail: Jonathan R. Cantor, Acting Chief Privacy Officer, Privacy Office, Department of Homeland Security, Washington, DC 20528-0655.

• HUD Mail: Rules Docket Clerk, Office of General Counsel, Department of Housing and Urban Development, 451 Seventh Street SW, Room 10110, Washington, DC 20410.

Instructions: All comments received from members of the public available for public viewing in their entirety on the Federal eRulemaking Portal at www.regulations.gov. Therefore, commenters should be careful to include in their comments only information that they wish to make publicly available. Comments made by fax or mail may be available for public inspection and copying between 8:00 a.m. and 5:00 p.m. weekdays. If you want to schedule an appointment to review comments made by fax or mail, please contact the person listed under

Docket: For access to the docket to read background documents or comments received, go to http://www.regulations.gov.

FOR FURTHER INFORMATION CONTACT: Individuals wishing to submit general questions on this matching program, including requesting a copy of the Computer Matching Agreement between DHS/FEMA and HUD, may contact either John Bravacos, Departmental Privacy Officer, Department of Housing and Urban Development, 451 Seventh Street SW, Room 10226, Washington, DC 20410, telephone number (202) 402-6064, William Holzerland, Senior Director for Information Management, DHS/FEMA, 500 C Street SW, Washington, DC 20479, telephone number (202) 212-5100. [These are not toll-free numbers.] A telecommunication device for hearing- and speech-impaired individuals (TTY) is available at (800) 877-8339 (Federal Relay Service). For privacy questions, please contact: Philip S. Kaplan, (202) 343-1717, Chief Privacy Officer, Privacy Office, Department of Homeland Security, Washington, DC 20528-0655.

SUPPLEMENTARY INFORMATION: The Department of Homeland Security, FEMA provides this notice in accordance with the Privacy Act of 1974 (5 U.S.C. 552a), as amended by the Computer Matching and Privacy Protection Act of 1988 (Pub. L. 100-503) and the Computer Matching and Privacy Protection Amendments of 1990 (Pub. L. 101-508); Office of Management and Budget (OMB) Final Guidance Interpreting the Provisions of Public Law 100-503, the Computer Matching and Privacy Protection Act of 1988, 54 FR 25818 (June 19, 1989); and OMB Circular A-108, 81 FR 94424 (December 23, 2016).

Participating Agencies

The Department of Homeland Security, Federal Emergency Management Agency and the Department of Housing and Urban Development are both the source and the recipient agency under this matching program.

Authority for Conducting the Matching Program

A. The Robert T. Stafford Disaster and Emergency Assistance Act (Pub. L. 93-288), as amended at 42 U.S.C. 5121 et seq., requires each federal agency that administers any program that provides financial assistance as a result of a major disaster or emergency, to assure that no individual or entity receives duplicate financial assistance under any program or insurance, or any other source. Furthermore, the Act requires DHS/FEMA or HUD (whichever agency provided the duplicate assistance) to recover all duplicative assistance from the recipient, when the head of such agency considers it to be in the best interest of the Federal Government, (42 U.S.C. 5155). Also, Section 408(i) of the Stafford Act, 42 U.S.C. 5174(i), as amended, directs and authorizes DHS/FEMA, in carrying out Section 408 (Federal Assistance to Individuals and Households), to “develop a system, including an electronic database,” to include, for example, to help verify the identity and address of recipients of assistance to provide reasonable assurance that payments are made only to an individual or household that is eligible for such assistance by sharing personally identifiable information.

B. Fraud, waste, and abuse prevention efforts pursuant to the aforementioned statutory authorities are also applicable to certain FEMA-administered pilot programs designed to provide alternative or additional federal disaster assistance programs (6 U.S.C. 776-777).

C. Section 904 of the Stewart B. McKinney Homeless Assistance Amendments Act of 1988 (the McKinney Act), 42 U.S.C. 3544, authorizes HUD to require applicants or participants in any HUD program involving review of an applicant's or participant's income to sign a consent form authorizing HUD, the public housing agency, or the owner to verify income information. Pursuant to section 239 of Public Law 111-8, Omnibus Appropriations Act, 2009, 123 Stat. 981, March 11, 2009, the Disaster Housing Assistance Programs administered by HUD are considered a HUD program under section 904 of the McKinney Act for the purpose of income verification and matching.

D. The appropriations acts that authorize and appropriate supplemental CDBG-DR assistance lay out specific requirements, some of which may vary by appropriation. These appropriations acts impose requirements related to the prevention of fraud, waste, and abuse, order of assistance, and prevention of duplication of benefits on CDBG-DR grantees. Legal authority for CDBG-DR assistance is derived from title I of the Housing and Community Development Act of 1974 (42 U.S.C. 5301, et seq.), subsequent appropriations acts making available CDBG-DR assistance, the following prior appropriations acts—Public Laws 115-72, 115-56, 115-31, 114-254, 114-223, 114-113, 113-2, 112-55, 111-212, 110-329, 110-252, 110-116, 109-234, 109-148, 108-324, 107-206, 107-117, 107-73, 107-38, 106-31, 105-277, 105-276, 105-174, 105-18, 104-134, 104-19, 103-327, 103-211, 103-75, and 103-50—and by the notices published in the Federal Register that govern CDBG-DR grant assistance, including the Clarification of Duplication of Benefits Requirements Under the Stafford Act for Community Development Block Grant (CDBG) Disaster Recovery Grantees at 76 FR 71,060 (November 16, 2011).

E. HUD regulation at (24 CFR 982.352(c)) prohibits a family from receiving the benefit of Section 8 tenant-based assistance under the Housing Choice Voucher Program while also receiving the benefit of any of the following forms of other housing subsidy, for the same unit or for a different unit:

1. Public or Indian housing assistance;

2. Other Section 8 assistance (including other tenant-based assistance);

3. Assistance under former Section 23 of the United States Housing Act of 1937 (before amendment by the Housing and Community Development Act of 1974);

4. Section 101 rent supplements;

5. Section 236 rental assistance payments;

6. Tenant-based assistance under the HOME program;

7. Rental assistance payments under Section 521 of the Housing Act of 1949 (a program of the Rural Development Administration);

8. Any local or state rent subsidy;

9. Section 202 supportive housing for the elderly;

10. Section 811 supportive housing for persons with disabilities;

11. Section 202 projects for non-elderly persons with disabilities (Section 162 assistance); or

12. Any other duplicative federal, state, or local housing subsidy, as determined by HUD. For this purpose, “housing subsidy” does not include the housing component of a welfare payment, a social security payment received by the family, or a rent reduction because of a tax credit.

Purpose(s)

The purpose of this matching program is to establish or verify initial or continuing eligibility for DHS/FEMA disaster assistance; prevent duplicative disaster assistance payments; or recoup duplicative payments and delinquent debts under the programs referenced in this Agreement, which will result in individuals being quickly and effectively transitioned from temporary relief programs administered by DHS/FEMA into long-term relief programs administered by HUD.

This program also enables HUD's Community Development Block Grant Disaster Recovery (CDBG-DR) grantees, including states, local governments, and Indian tribes (as directed by the applicable appropriations act), to use FEMA data to determine the correct award amount for eligible program beneficiaries by identifying unmet needs of FEMA applicants; prevent the duplication of benefits; implement the statutory requirement that CDBG-DR funds may not be used for activities reimbursable by or for which funds are made available by FEMA; and implement the statutory requirement to establish procedures to detect and prevent waste, fraud, and abuse of funds. To accomplish this purpose, this program permits HUD to provide data to CDBG-DR allocatees before the grant agreement is signed, so long as the state, local government, or Indian tribe that is awarded the CDBG-DR allocation has entered an information sharing agreement with HUD. For purposes of this program, the term “CDBG-DR grantee(s)” includes CDBG-DR allocatees.

In sum, the following programs are covered under this computer matching agreement:

1. DHS/FEMA housing assistance provided through its Individuals and Households Program (IHP) under Section 408(f) of the Stafford Act, 42 U.S.C. 5174(f)(2)

2. HUD rental assistance programs identified at 24 CFR 5.233 and the Disaster Housing Assistance Program.

3. CDBG-DR assistance authorized and appropriated from time to time under various appropriations acts.

Categories of Individuals

Categories of individuals covered under this matching agreement include individuals seeking federal disaster relief assistance.

Categories of Records

Data elements disclosed in this matching program include the following:

• FEMA Registration ID.

• Disaster Number.

• Social Security Number (SSN)—the head of household SSN.

• First and Last Name and Middle Initial of the head of household.

• DOB—date of birth of head of household.

• Damaged Address Street Address—the head of household's damaged street address.

• Current Address and Phone Number—contact information for the head of household.

• Damaged Unit Information—information on the type and level of damage sustained.

• Assistance Received—information on the type and amount of assistance the household has received.

Data elements, along with the category of information (e.g. identification, damages, contact information, assistance, household characteristics), specifically shared between FEMA and HUD, and how they are matched between them, is outlined in Appendix A of the Computer Matching Agreement.

System(s) of Records

DHS/FEMA

The DHS/FEMA records reside in the National Emergency Management Information System—Individual Assistance System (NEMIS-IA System) and are covered by DHS/FEMA—008 Disaster Recovery Assistance Files System of Records, 78 FR 25,282 (April 30, 2013).

HUD

HUD records reside in HUD's Tenant Rental Assistance Certification System (TRACS) (HSNG/MF.HTS.02), 81 FR 56,684 (August 22, 2016); the Inventory Management System (IMS), also known as the Public and Indian Housing (PIH) Information Center (PIC) (HUD/PIH.01) 77 FR 22,337 (April 13, 2012); and the Enterprise Income Verification System (EIV) (HUD/PIH-5) 71 FR 45,066 (August 8, 2006), which was updated by 74 FR 45,235 (September 1, 2009). The results of the information comparison are maintained within the IMS/PIC system (HUD/PIH.01).

Philip S. Kaplan,
Chief Privacy Officer, Department of Homeland Security.

[FR Doc. 2019-00768 Filed 1-31-19; 8:45 am]

BILLING CODE 9110-17-P